FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
015083F | Gandhi International Shipping, Inc., 2358 W. Devon Avenue, Chicago, IL 60659 | March 31, 2011.
019908NF | International Trade Management Group, LLC dba ITM Logistics dba Patriot Lines, 611 Live Oak Drive, McLean, VA 22101 | February 21, 2011.
022665N | Pacific Glory USA, Inc., 5673 Old Dixie Hwy., Suite 102, Forest Park, GA 30297 | March 31, 2011.

Tanga S. FitzGibbon,
Deputy Director, Bureau of Certification and Licensing.

[FR Doc. 2011-11606 Filed 5-11-11; 8:45 am]

BILLING CODE 6730-01-P